DEPARTMENT OF TRANSPORTATION

Federal Railroad Administration

[Docket No. FRA-2000-7257, Notice No. 79]

Railroad Safety Advisory Committee; Notice of Meeting

AGENCY: Federal Railroad Administration (FRA), Department of Transportation.

ACTION: Announcement of Railroad Safety Advisory Committee (RSAC) meeting.

SUMMARY: FRA announces the fifty-third meeting of the RSAC, a Federal Advisory Committee that develops railroad safety recommendations through a consensus process. The RSAC meeting topics will include opening remarks from the FRA Acting Administrator, the FRA Associate Administrator for Safety/Chief Safety Officer, and status reports by the Recording Devices and Rail Integrity Working Groups. The Engineering Task Force also will provide a status report and there will be presentations on grade crossing issues, as well as the Pipeline and Hazardous Materials Safety Administration's Final Rule on Enhanced Tank Car Standards and Operational Controls for High-Hazard Flammable Trains. This agenda is subject to change, including the possible addition of further proposed tasks.

DATES: The RSAC meeting is scheduled to commence at 9:30 a.m. on Thursday, May 28, 2015, and will adjourn by 4:30 p.m.

ADDRESSES: The RSAC meeting will be held at the Double Tree Hotel located at 1515 Rhode Island Avenue NW., Washington, DC 20005. The meeting is open to the public on a first-come, first-served basis, and is accessible to individuals with disabilities. Sign and oral interpretation can be made available if requested 10 calendar days before the meeting.

FOR FURTHER INFORMATION CONTACT: Larry Woolverton, RSAC Administrative Officer, FRA, 1200 New Jersey Avenue SE., Mailstop 25, Washington, DC 20590, (202) 493-6286; or Jamie Rennert, Deputy Associate Administrator for Regulatory & Legislative Operations, Office of Railroad Safety, FRA, 1200 New Jersey Avenue SE., Mailstop 25, Washington, DC 20590, (202) 493-6474.

SUPPLEMENTARY INFORMATION: Pursuant to Section 10(a)(2) of the Federal Advisory Committee Act (Pub. L. 92-463), FRA is giving notice of a meeting of the RSAC. The RSAC was established to provide advice and recommendations to FRA on railroad safety matters. The RSAC is composed of 60 voting representatives from 39 member organizations, representing various rail industry perspectives. In addition, there are non-voting advisory representatives from the agencies with railroad safety regulatory responsibility in Canada and Mexico, the National Transportation Safety Board, and the Federal Transit Administration. The diversity of the RSAC ensures the requisite range of views and expertise necessary to discharge its responsibilities. See the RSAC Web site for details on prior RSAC activities and pending tasks at http://rsac.fra.dot.gov/. Please refer to the notice published in the Federal Register on March 11, 1996 (61 FR 9740), for additional information about the RSAC.

Issued in Washington, DC, on May 5, 2015.
Robert C. Lauby,
Associate Administrator for Safety, Chief Safety Officer.

[FR Doc. 2015-11269 Filed 5-8-15; 8:45 am]

BILLING CODE 4910-06-P